DEPARTMENT OF VETERANS AFFAIRS

National Research Advisory Council; Notice of Meeting

The Department of Veterans Affairs (VA) gives notice under Public Law 92-463 (Federal Advisory Committee Act) that the Veterans Affairs National Research Advisory Council will meet at the Ronald Reagan Building and International Trade Center, Continental Room, 1300 Pennsylvania Avenue, NW., Washington, DC 20004, on November 13, 2000, from 10 to 11:30 a.m. and 1:30 to 3 p.m. The agenda for the first session of the inaugural meeting will include the history and overview of the policies of VA research, followed by a background session on the challenges for the direction of the research and development program as related to policy, research centers, staffing, and operations. Established by the Secretary of Veterans Affairs, the purpose of the Council is to provide external advice and review for VA's research mission. Those planning to attend the open meeting should contact Ms. Sandra Young, Office of Research and Development at (202) 273-8284.

Dated: October 24, 2000.
Marvin R. Eason,
Committee Management Officer.

[FR Doc. 00-27960 Filed 10-30-00; 8:45 am]

BILLING CODE 8320-01-M